DEPARTMENT OF TRANSPORTATION

Federal Transit Administration

Public Transportation on Indian Reservations Program; Tribal Transit Program

AGENCY: Federal Transit Administration (FTA), DOT.

ACTION: Notice of Funding Availability: Solicitation of Grant Applications for FY 2014 Tribal Transit Program Funds.

SUMMARY: The Federal Transit Administration (FTA) announces the availability of approximately $5 million in funding provided by the Public Transportation on Indian Reservations Program (Tribal Transit Program (TTP)), as authorized by 49 U.S.C. Section 5311(j), as amended by the Moving Ahead for Progress in the 21st Century Act (MAP-21), Public Law 112-41 (July 6, 2012). This notice is a national solicitation for project proposals and includes the selection criteria and program eligibility information for Fiscal Year 2014 projects. FTA may choose to fund the program for more or less than the announcement amount, including applying any FY 2015 appropriations or other funding toward projects proposed in response to the Notice of Funding Availability (NOFA).

This announcement is available on the FTA Web site at: http://www.fta.dot.gov/grants/15926_3553.html. Additionally, a synopsis of the funding opportunity will be posted in the FIND module of the government-wide electronic grants Web site at http://www.grants.gov.

FTA requires that all project proposals be submitted electronically through http://www.GRANTS.GOV by 11:59 p.m. EDT on February 18, 2015. Mail and fax submissions will not be accepted. A complete proposal submission will consist of at least two files: (1) The SF 424 Mandatory form (downloaded from GRANTS.GOV) and (2) the Tribal Transit supplemental form found on the FTA Web site at http://www.fta.dot.gov/grants/15926_3553.html. The Tribal Transit supplemental form provides guidance and a consistent format for applicants to respond to the criteria outlined in this NOFA. Once completed, the applicant must place the supplemental form in the attachments section of the SF-424 Mandatory form. Applicants must use the supplemental form designated for TTP and attach the form to their submission in GRANTS.GOV to complete the application process. A proposal submission may contain additional supporting documentation as attachments.

Within 24-48 hours after submitting an electronic application, the applicant should receive three email messages from GRANTS.GOV: (1) Confirmation of successful transmission to GRANTS.GOV; (2) confirmation of successful validation by GRANTS.GOV; and (3) confirmation of successful validation by FTA. If the applicant does not receive confirmations of successful validation and instead receives a notice of failed validation or incomplete materials, the applicant must address the reason for the failed validation or incomplete materials, as described in the notice, and resubmit the proposal before the submission deadline. If making a resubmission for any reason, the applicant must include all original attachments regardless of which attachments are updated and check the box on the supplemental form indicating this is a resubmission. Complete instructions on the application process can be found at http://www.fta.dot.gov/grants/15926_3553.html.

Important: FTA urges applicants to submit their project proposals at least 72 hours prior to the due date to allow time to receive the validation message and to correct any problems that may have caused a rejection notification. FTA will not accept submissions after the stated submission deadline. GRANTS.GOV scheduled maintenance and outage times are announced on the GRANTS.GOV Web site http://www.GRANTS.GOV. The deadline will not be extended due to scheduled maintenance or outages.

Applicants may submit one proposal for each project or one proposal containing multiple projects. Applicants submitting multiple projects in one proposal must be sure to clearly define each project by completing a supplemental form for each project. Additional supplemental forms must be added within the proposal by clicking the “add project” button in Section II of the supplemental form.

Information such as applicant name, Federal amount requested, description of areas served, and other information may be requested in varying degrees of detail on both the SF 424 form and supplemental form. Applicants must fill in all fields unless stated otherwise on the forms. Applicants should use both the “Check Package for Errors” and the “Validate Form” validation buttons on both forms to check all required fields on the forms, and ensure that the Federal and local amounts specified are consistent.

DATES: Complete proposals for the Tribal Transit Program announced in this Notice must be submitted by 11:59 p.m. EDT on February 18, 2015. All proposals must be submitted electronically through the GRANTS.GOV APPLY function. Any tribe intending to apply should initiate the process of registering on the GRANTS.GOV site immediately to ensure completion of registration before the submission deadline. Instructions for applying can be found on FTA's Web site at http://www.fta.dot.gov/grants/15926_3553.html and in the “FIND” module of GRANTS.GOV.

FOR FURTHER INFORMATION CONTACT: Contact the appropriate FTA Regional Office at http://www.fta.dot.gov for proposal-specific information and issues. For general program information, contact Élan Flippin, Office of Program Management, (202) 366-3800, email: elan.flippin@dot.gov. A TDD is available at 1-800-877-8339 (TDD/FIRS).

SUPPLEMENTARY INFORMATION:

Table of Contents

A. Overview

B. Program Purpose

C. Program Information

1. Eligible Applicants

2. Eligible Projects

3. Cost Sharing and Matching

4. Proposal Content

D. Technical Assistance and Other Program Information

List of Appendices

Appendix A: List of Regional Tribal Liaisons

Appendix B: Technical Assistance Contacts

Appendix C: Registering in SAM and Grants.gov

A. Overview

The Tribal Transit Program was established by section 3013 of SAFETEA-LU and modified under Section 20010 of MAP-21, Public Law 112-41 (July 6, 2012) and codified at 49 U.S.C. 5311(j). MAP-21 amended the Tribal Transit Program to consist of a $25 million formula allocation and a $5 million discretionary program. The program authorizes direct grants “under such terms and conditions as may be established by the Secretary” to Indian tribes for any purpose eligible under FTA's Rural Areas Formula Program, 49 U.S.C. 5311. Approximately $5 million is available for the Tribal Transit discretionary allocation in FY 2014 to projects selected pursuant to the process described in the following sections.

B. Program Purpose

The primary purpose of these competitively selected grants is to support planning, capital, and, in limited circumstances, operating assistance for tribal public transit services. Funds distributed to Indian tribes under the TTP should NOT replace or reduce funds that Indian tribes receive from States through FTA's Section 5311 program. Specific project eligibility under this competitive allocation is described in Section C-2 below. Priority consideration will be given to eligible projects that help to expand ladders of opportunity. Examples could include enhancing access to work, educational, and other training opportunities, and supporting partnerships that expand access to other governmental, health, medical, education, social, human service, and transportation providers to improve coordinated delivery of services.

C. Program Information

1. Eligible Applicants

Eligible applicants include federally recognized Indian tribes or Alaska Native villages, groups, or communities as identified by the U.S. Department of Interior (DOI), Bureau of Indian Affairs (BIA). As evidence of Federal recognition, an Indian tribe may submit a copy of the most up-to-date Federal Register Notice published by DOI, BIA: Entities Recognized and Eligible to Receive Service from the United States Bureau of Indian Affairs (79 FR 4748, January 29, 2014). To be an eligible recipient, an Indian tribe must have the requisite legal, financial and technical capabilities to receive and administer Federal funds under this program. Applicants must be registered in the System for Award Management (SAM) database (instructions for registration are located under Appendix C) and maintain an active SAM registration with current information at all times during which it has an active Federal award or an application or plan under consideration by FTA.

2. Eligible Projects

Eligible projects include public transportation planning, capital and operating projects, in limited circumstances. Public transportation includes regular, continuing shared-ride surface transportation services open to the public or open to a segment of the public defined by age, disability, or low income. FTA will award grants to eligible Indian tribes located in rural areas. Specific types of projects include: Capital projects for start-ups, replacement or expansion needs; operating assistance for start-ups; and planning projects up to $25,000. Indian tribes applying for capital replacement or expansion needs must demonstrate a sustainable source of operating funds for existing or expanded services. FY 2013 was considered a transition year for the discretionary program and Indian tribes who did not receive an FY 2013 formula apportionment or only received a Tier 3 allocation were allowed to apply for operating assistance under the discretionary program. This transition period gave tribes an opportunity to receive operating funds to run their transit systems and report Vehicle Revenue Miles (VRMs) to the National Transit Database (NTD) for inclusion in the FY14 formula program. In FY 2014, FTA will only consider operating assistance requests from tribes without existing transit service, or those tribes who received a TTP formula allocation of less than $20,000.

3. Cost Sharing or Matching

There is a 90 percent Federal share for projects selected under the TTP discretionary program, unless the Indian tribe can demonstrate a financial hardship in its application. FTA is interested in the Indian tribe's financial commitment to the proposed project, thus the proposal should include a description of the Indian tribe's financial commitment.

4. Proposal Content (All Applicants Must Completely Respond to Items in This Section To Be Considered for TTP Funding)

The following information MUST be included on the SF 424 and supplemental forms for all TTP funding proposals:

i. Proposal Information

a. Name of federally-recognized tribe and, if appropriate, the specific tribal agency submitting the application.

b. Dun and Bradstreet (D&B) Data Universal Numbering System (DUNS) number if available. (Note: If selected, applicant will be required to provide DUNS number prior to grant award).

c. Contact information including: Contact name, title, address, fax and phone number, and email address if available.

d. Description of public transportation services including areas currently served by the tribe, if any.

e. Name of person(s) authorized to apply on behalf of the tribe (attach a signed transmittal letter) must accompany the proposal.

ii. Project Information

a. Project Description

Indicate the category for which funding is requested; i.e., project type: Capital, operating or planning, and then indicate the project purpose; i.e., start-up, expansion or replacement. Describe the proposed project and what it will accomplish (e.g., number and type of vehicles, routes, service area, schedules, type of services, fixed route or demand responsive, safety aspects), route miles (if fixed route), ridership numbers expected (actual if an existing system, estimated if a new system), major origins and destinations, population served, and whether the tribe provides the service directly, contracts for services, and note vehicle maintenance plans.

b. Project Timeline

Include significant milestones such as date of contract for purchase of vehicle(s), actual or expected delivery date of vehicles; facility project phases (e.g. NEPA compliance, design, construction); or dates for completion of planning studies. If applying for operational funding for new services, indicate the period of time funds are used to operate the system (e.g. one year). This section should also include any needed timelines for tribal council project approvals, if applicable.

c. Budget

Provide a detailed budget for each proposed purpose noting the Federal amount requested and any additional funds that will be used. An Indian tribe use allow up to 15 percent of a grant award for capital projects for specific project-related planning and administration, and the indirect costs rate may not exceed ten percent (if necessary add as an attachment) of the total amount requested/awarded.

d. Technical, Legal, Financial Capacity

Indian tribes must be able to demonstrate adequate capacity in technical, legal and financial areas to be considered for funding. Every proposal MUST describe this capacity to implement the proposed project.

1. Technical Capacity: Provide examples of the Indian tribe's management of other Federal projects, including previously funded FTA projects and/or similar types of projects for which funding is being requested. Describe the resources the Indian tribe has to implement the proposed transit project.

2. Legal Capacity: Provide documentation or other evidence to show that the applicant is a federally recognized Indian tribe and has an authorized representative to execute legal agreements with FTA on behalf of the Indian tribe. If applying for capital or operating funds, identify whether the Indian tribe has appropriate Federal or State operating authority.

3. Financial Capacity: Provide documentation or other evidence to show that the Indian tribe has adequate financial systems in place to receive and manage a Federal grant. Describe the Indian tribe's financial systems and controls. Describe other sources of funds the Indian tribe manages and describe the long-term financial capacity to maintain the proposed or existing transit services.

5. Evaluation Criteria for Operating and Capital Assistance Requests

Applications will be grouped into their respective category for review and rating purposes. Applicants must address criteria in Sections i-v for operating and capital requests. Applicants applying for planning grants must address evaluation criteria in Section vi.

i. Planning and Local/Regional Prioritization

In this section, the applicant should describe how the proposed project was developed and demonstrate that there is a sound basis for the project and that the applicant is ready to implement the project if funded. Information may vary depending upon how the planning process for the project was conducted and what is being requested. Planning and local/regional prioritization should consider and address the following areas:

a. Describe the planning document and/or the planning process conducted to identify the proposed project.

b. Provide a detailed project description including the proposed service, vehicle and facility needs, and other pertinent characteristics of the proposed or existing service implementation.

c. Identify existing transportation services in and near the proposed service area and document in detail, whether the proposed project will provide opportunities to coordinate service with existing transit services, including human service agencies, intercity bus services, or other public transit providers.

d. Discuss the level of support by the community and/or tribal government for the proposed project.

e. Describe how the mobility and client-access needs of tribal human service agencies were considered in the planning process.

f. Describe what opportunities for public participation were provided in the planning process and how the proposed transit service or existing service has been coordinated with transportation provided for the clients of human service agencies, with intercity bus transportation in the area, or with any other rural public transit providers.

g. Describe how the proposed service complements rather than duplicates any currently available services.

h. Describe the implementation schedule for the proposed project, including time period, staffing, and procurement.

i. Describe any other planning or coordination efforts not mentioned above.

ii. Project Readiness: In this section, the applicant should describe readiness to implement the project. This involves assessing whether:

a. Project is a Categorical Exclusion (CE) or the required environmental work has been initiated or completed for construction projects requiring an Environmental Assessment (EA) or Environmental Impact Statement (EIS) under, among others, the National Environmental Policy Act of 1969, as amended.

b. Project implementation plans are complete, including initial design of facilities projects.

c. Project funds can be obligated and the project can be implemented quickly, if selected.

d. Applicant demonstrates the ability to carry out the proposed project successfully.

iii. Demonstration of Need

FTA will evaluate each project to determine the need for resources. In addition to the project-specific criteria, this will include evaluating the project's impact on service delivery and whether the project represents a one-time or periodic need that cannot reasonably be funded from the FTA program formula allocations or State and/or local resources. In this section, the proposal should demonstrate the transit needs of the Indian tribe and discuss how the proposed transit improvements or the new service will address the identified transit needs. Proposals should include information such as destinations and services not currently accessible by transit, needs for access to jobs or health care, safety enhancements or special needs of elders and individuals with disabilities, income-based community needs, or other mobility needs. If an applicant received a planning grant in previous fiscal years, it should indicate the status of the planning study and how the proposed project relates to that study.

Capital expansion or replacement projects should also address the following in the proposal. If the proposal is for capital funding associated with an expansion or expanded service, the applicant should describe how current or growing demand for the service necessitates the expansion (and therefore, more capital) and/or the degree to how the project is addressing a current capacity constraint. Capital replacement projects should include information about the age, condition, and performance of the asset to be replaced by the proposed project and/or how the replacement may be necessary to maintain the transit system in a state of good repair.

iv. Demonstration of Benefits

In this section, proposals should identify expected or, in the case of existing service, achieved, project benefits. FTA is particularly interested in how these investments will improve the quality of life for the tribe and surrounding communities. Applicants should describe how the transportation service or capital investment will provide greater access to employment opportunities, educational centers, healthcare, or other needs that profoundly impact the quality of life for the community, as described in the program purpose above. Please note, DOT recognizes that a formal benefit-cost analysis can be particularly burdensome on Tribal governments. Therefore, the Department is providing flexibility to Tribal governments to demonstrate benefits—including some of the following examples—for the purposes of this notice. Possible examples include increased or sustained ridership and daily trips, improved service, elimination of gaps in service, improved operations and coordination, increased reliability, health care, education, and economic benefits to the community. Benefits can be demonstrated by identifying the population of community members in the proposed project service area and estimating the number of daily one-way trips the proposed transit service will provide or the actual number of individual riders served. Applicants are encouraged to consider qualitative and quantitative benefits to the Indian tribe and to the surrounding communities that are meaningful to them.

Based on the information provided under the demonstration of benefits, proposals will be rated based on four factors:

a. Will the project improve transit efficiency or increase ridership?

b. Will the project improve or maintain mobility, or eliminate gaps in service for the Indian tribe?

c. Will the project improve or maintain access to important destinations and services?

d. Are there other qualitative benefits, such as greater access to jobs, education and health care?

v. Financial Commitment and Operating Capacity

In this section, the proposal should identify the source of local match (10 percent is required for all operating and capital projects), and any other funding sources used by the Indian tribe to support proposed transit services, including human service transportation funding, FHWA's Tribal Transportation Program funding, or other FTA programs. If requesting the local match to be waived based on financial hardship, the applicant must submit budgets and sources of other revenue to demonstrate hardship. FTA will review this information and notify tribes at the time of award if the waiver is approved. If applicable, the applicant should also describe how prior year TTP funds were spent to date to support the service. Additionally, Indian tribes applying for operating of new services should provide a sustainable funding plan that demonstrates how it intends to maintain operations.

The proposal should describe any other resources the Indian tribe will contribute to the project, including in-kind contributions, commitments of support from local businesses, donations of land or equipment, and human resources, and describe to what extent the new project or funding for existing service leverages other funding. Based upon the information provided, the proposals will be rated on the extent to which the proposal demonstrates that:

a. TTP Funding does not replace existing funding;

b. The Indian tribe will provide non-financial support to the project;

c. The Indian tribe is able to demonstrate a sustainable funding plan; and

d. Project funds are used in coordination with other services for efficient utilization of funds.

vi. Evaluation Criteria for Planning Proposals

For planning grants, the proposal should describe, in no more than three pages, the need for and a general scope of the proposed study. The proposal should also address the following:

1. What is the tribes' long-term commitment to transit?

2. How will the proposed study be implemented and/or further tribal transit.

6. Review and Selection Process

A technical evaluation committee will review proposals under the project evaluation criteria. Members of the technical evaluation committee and other involved FTA staff reserve the right to screen, rate the applications, and seek clarification about any statement in an application.

After consideration of the findings of the technical evaluation committee, the FTA Administrator will determine the final selection and amount of funding for each project. Geographic diversity and the applicant's receipt and management of other Federal transit funds may be considered in FTA's award decisions. FTA expects to announce the selected projects and notify successful applicants in summer 2015.

Once successful applicants are announced, they will work with the appropriate Regional office to develop a grant application consistent with the selected proposal in FTA's electronic grant award and management system.

D. Technical Assistance and Other Program Information

This program is not subject to Executive Order 12372, “Intergovernmental Review of Federal Programs.” FTA will consider applications for funding only from eligible recipients for eligible projects listed in Section C-2. Due to funding limitations, applicants that are selected for funding may receive less than the amount requested. Complete applications must be submitted through GRANTS.GOV no later than February 18, 2015.

Additionally, FTA is continuing to expand its technical assistance and oversight of tribes receiving funds under this program by conducting technical assistance assessments. These assessments will include discussion of compliance areas and program requirements pursuant to the Master Agreement, a site visit and technical assistance from FTA and its contractors. To assist tribes with understanding program requirements, FTA will conduct Tribal Transit Technical Assistance Workshops in FY 2015. FTA plans to begin assessments in FY 2015, giving tribes an opportunity to attend offered workshops. FTA will use these assessments as a tool to focus on areas of improvement and as an indication of the areas where technical assistance is needed.

FTA will post information about upcoming workshops to its Web site and will disseminate information about the reviews through its Regional offices. A list of Tribal Liaisons is available on FTA's Web site at http://www.fta.dot.gov/grants/15926_3553.html and in Appendix A of this document.

Applicants may also receive technical assistance for application development by contacting their FTA regional tribal liaison, or the National Rural Transportation Assistance Program office (Appendix B). Contact information for FTA's regional offices can be found on FTA's Web site at www.fta.dot.gov.

Therese W. McMillan,
Acting Administrator.

Appendix A

FTA Regional Tribal Liaisons
Region 1—Boston | Region 6—Ft. Worth
Regional Tribal Liaison: Sean Sullivan | Regional Tribal Liaisons: Lynn Hayes and Luciana Nears.
States served: Connecticut, Maine, Massachusetts, New Hampshire, Rhode Island, and Vermont | States served: Arkansas, Louisiana, Oklahoma, New Mexico and Texas.
Region 2—New York | Region 7—Kansas City, MO
Regional Tribal Liaison: Darin Allan | Regional Tribal Liaison: Cathy Monroe.
States served: New Jersey, New York, New York Metropolitan Office | States served: Iowa, Kansas, Missouri, and Nebraska.
Region 3—Philadelphia | Region 8—Denver
| Regional Tribal Liaisons: Jennifer Stewart and David Beckhouse.
States served: Delaware, Maryland, Pennsylvania, Virginia, West Virginia, and District of Columbia | States served: Colorado, Montana, North Dakota, South Dakota, Utah, and Wyoming.
Region 4—Atlanta | Region 9—San Francisco
Regional Tribal Liaison: Tajsha LaShore | Regional Tribal Liaison: Dominique Paukowits.
States served: Alabama, Florida, Georgia, Kentucky, Mississippi, North Carolina, Puerto Rico, South Carolina, Tennessee, and Virgin Islands | States served: American Samoa, Arizona, California, Guam, Hawaii, Nevada, and the Northern Mariana Islands.
Region 5—Chicago | Region 10—Seattle
Regional Tribal Liaisons: Susan Orona and Angelica Salgado | Regional Tribal Liaison: Scot Rastelli.
States served: Illinois, Indiana, Michigan, Minnesota, Ohio, and Wisconsin | States served: Alaska, Idaho, Oregon, and Washington.

Appendix B

Technical Assistance Contacts
Alaska Tribal Technical Assistance Program, Kim Williams, University of Alaska, Fairbanks, P.O. Box 756720, Fairbanks, AK 99775-6720, (907)842-2521, (907)474-5208, williams@nushtel.net, http://community.uaf.edu/~alaskattac. Service area: Alaska. | Northern Plains Tribal Technical Assistance Program, Dennis Trusty, United Tribes Technical College, 3315 University Drive, Bismarck, ND 58504, (701)255-3285 ext. 1262, (701)530-0635, nddennis@hotmail.com, http://www.uttc.edu/forum/ttap/ttap.asp. Service area: Montana (Eastern), Nebraska (Northern), North Dakota, South Dakota, Wyoming.
National Indian Justice Center, Raquelle Myers, 5250 Aero Drive, Santa Rosa, CA 95403, (707) 579-5507 or (800) 966-0662, (707) 579-9019, nijc@aol.com, http://www.nijc.org/ttap.html. Service area: California, Nevada. | Northwest Tribal Technical Assistance Program, Richard A. Rolland, Eastern Washington University, Department of Urban Planning, Public & Health Administration, 216 Isle Hall, Cheney, WA 99004, (800)583-3187, (509)359-7485, rrolland@ewu.edu, http://www.ewu.edu/TTAP/. Service area: Idaho, Montana (Western), Oregon, Washington.
Tribal Technical Assistance Program at Colorado State University, Ronald Hall, Rockwell Hall, Room 321, Colorado State University, Fort Collins, CO 80523-1276, (800)262-7623, (970)491-3502, ronald.hall@colostate.edu, http://ttap.colostate.edu/. Service area: Arizona, Colorado, New Mexico, Utah. | Tribal Technical Assistance Program at Oklahoma State University, James Self, Oklahoma State University, 5202 N. Richmond Hills Road, Stillwater, OK 74078-0001, (405)744-6049, (405)744-7268, jim.self@okstate.edu, http://ttap.okstate.edu/. Service area: Kansas, Nebraska, (Southern), Oklahoma, Texas.
Tribal Technical Assistance Program (TTAP), Bernie D. Alkire, 301-E Dillman Hall, Michigan Technological University, 1400 Townsend Drive, Houghton, MI 49931-1295, (888)230-0688, (906)487-1834, balkire@mtu.edu, http://www.ttap.mtu.edu/. Service area: Alabama, Arkansas, Connecticut, Delaware, Florida, Georgia, Illinois, Indiana, Iowa, Kentucky, Louisiana, Maine, Maryland, Massachusetts, Michigan, Minnesota, Mississippi, Missouri, New Hampshire, New Jersey, New York, North Carolina, Ohio, Pennsylvania. | National RTAP (National Rural Transit Assistance Program), Contact: Patti Monahan, National RTAP, 5 Wheeling Ave., Woburn, MA 01801, (781) 404-5015 (Direct), (781) 895-1122 (Fax), (888) 589-6821 (Toll Free), pmonahan@nationalrtap.org, www.nationalrtap.org.
Community Transportation Association of America, The Resource Center—800-891-0590, http://www.ctaa.org/. |

Appendix C

Registering In SAM and Grants.Gov

Registration in Brief:

Registration takes approximately 3-5 business days, please allow 4 weeks for completion of all steps.

In order to apply for a grant, you and/or your organization must first complete the registration process in Grants.gov. The registration process for an Organization or an Individual can take between three to five business days or as long as four weeks if all steps are not completed in a timely manner. So please register in Grants.gov early.

The Grants.gov registration process ensures that applicants for Federal Funds have the basic prerequisites to apply for and to receive federal funds. Applicants for FTA discretionary funds must:

• Have a valid DUNS number

• Have a current registration in SAM (formerly CCR)

• Register and apply in Grants.gov

The required registration steps are described in greater detail on Grants.gov Web site. The following is a link to a helpful checklist and explanations published by Grants.gov to assist applicants: Organization Registration Checklist. If you have not recently applied for federal funds, we recommend that you initiate your search, registration, and application process with Grants.gov. Visiting the Grants.gov site will inform you of how to apply for grant opportunities, as well as assist you in linking to the other required registrations, i.e., Dun & Bradstreet to obtain a DUNS Number, and System for Award Management (SAM).

Summary of steps (these steps are available in Grants.gov during registration):

STEP 1: Obtain DUNS Number

Same day. If requested by phone (1-866-705-5711) DUNS is provided immediately. If your organization does not have one, you will need to go to the Dun & Bradstreet Web site at http://fedgov.dnb.com/webform to obtain the number.

STEP 2: Register With SAM

Three to five business days or up to two weeks. If you already have a TIN, your SAM registration will take 3-5 business days to process. If you are applying for an EIN please allow up to 2 weeks. Ensure that your organization is registered with the System for Award Management (SAM) at System for Award Management (SAM). If your organization is not, an authorizing official of your organization must register.

STEP 3: Establish an Account in Grants.gov—Username & Password

Same day. Complete your AOR (Authorized Organization Representative) profile on Grants.gov and create your username and password. You will need to use your organization's DUNS Number to complete this step. https://apply07.grants.gov/apply/OrcRegister.

STEP 4: Grants.gov—AOR Authorization

*Same day. The E-Business Point of Contact (E-Biz POC) at your organization must login to Grants.gov to confirm you as an Authorized Organization Representative (AOR). Please note that there can be more than one AOR for your organization. In some cases the E-Biz POC is also the AOR for an organization. *Time depends on responsiveness of your E-Biz POC.

Please Note: Grants.gov gives you the option of registering as an “individual” or as an “organization.” If you register in Grants.gov as an as an “Individual,” your “Organization” will not be allowed to use the Grants.gov username and password. To apply for grants as an Organization you must register as an Organization and use that specific username and password issued during the “organization” registration process.

[FR Doc. 2014-28792 Filed 12-8-14; 8:45 am]

BILLING CODE P